DEPARTMENT OF HOUSING AND URBAN DEVELOPMENT

[Docket No. FR-5283-N-02]

Notice of Proposed Information Collection: Comment Request; Affirmative Fair Housing Marketing (AFHM) Plan

AGENCY: Office of the Assistant Secretary for Fair Housing and Equal Opportunity, HUD.

ACTION: Notice.

SUMMARY: The proposed information collection requirement described below will be submitted to the Office of Management and Budget (OMB) for review, as required by the Paperwork Reduction Act of 1995. The Department of Housing and Urban Development (the Department) is soliciting public comments on the subject proposal.

DATES: Comments Due Date: December 21, 2009.

ADDRESSES: Interested persons are invited to submit comments regarding this proposed information collection requirement. Comments should refer to the proposal by name and/or OMB Control Number and should be sent to: Lillian L. Deitzer, Reports Management Officer, QDAM, Office of Investments Strategies, Department of Housing and Urban Development, 451 7th Street, SW., Room 4178, Washington, DC 20410-2000; e-mail Lillian.L.Deitzer@hud.gov or telephone (202) 402-8048.

FOR FURTHER INFORMATION CONTACT: Pamela D. Walsh, Director, Office of Policy, Legislative Initiatives, and Outreach, Department of Housing and Urban Development, 451 7th Street, SW., Room 5224, Washington, DC 20410-2000; telephone: (202) 708-1145 (this is not a toll-free number) for copies of the proposed forms and other available information. Hearing or speech-impaired individuals may access this number TTY by calling the toll-free Federal Information Relay Service at 1-800-877-8339.

SUPPLEMENTARY INFORMATION: The Department is submitting this proposed information collection requirement to OMB for review, as required by the Paperwork Reduction Act of 1995 (44 U.S.C. Chapter 35, as amended).

This Notice solicits comments from members of the public and affected agencies concerning the proposed collection of information to: (1) Evaluate whether the proposed information collection is necessary for the proper performance of the functions of the agency; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses, information collection on responders, including the use of appropriate automated collection techniques or other forms of information technology (e.g., electronic submission of responses).

This Notice also lists the following information:

Title of Proposal: Affirmative Fair Housing Marketing (AFHM) Plan.

Title of Regulation: Affirmative Fair Housing Marketing Regulations (24 CFR Part 200.600 and Affirmative Fair Housing Marketing Compliance Regulations (24 CFR Part 108).

OMB Control Number, if applicable: 2529-0013.

Description of the need for the information and proposed use: HUD uses this information to assess the adequacy of the applicant's proposed actions to carry out the Affirmative Fair Housing Marketing requirements of 24 CFR 200.600 and review compliance with these requirements under 24 CFR Part 108, the AFHM Compliance Regulations.

Agency form numbers, if applicable: HUD-935.2A Affirmative Fair Housing Marketing (AFHM) Plan (Multifamily), HUD-935.2B Affirmative Fair Housing Marketing (AFHM) Plan (Single-Family), and HUD-935.2C Affirmative Fair Housing Market (AFHM) Plan (Condominiums or Cooperatives).

Members of affected public: Applicants for mortgage insurance under the Department's insured single-family and multi-family subsidized and unsubsidized programs.

Estimation of the total numbers of hours needed to prepare the information collection including number of respondents, frequency of response, and hours of response: The number of burden hours is 25,540, which includes time for initial submission, review of existing plans, and any necessary revision. On an annual basis, there are approximately 4,360 respondents who submit initial plans or updated plans. On an annual basis, an additional 3,720 respondents simply review their existing plans. The frequency of annual response is once, and the average burden hour per response is 6 hours for initial submitted plans, and 4 hours for review and updating of existing plans.

Status of the proposed information collection: Extension of currently approved collection.

Authority: The Paperwork Reduction Act of 1995, 44 U.S.C. Chapter 35, as amended.

Dated: October 9, 2009.
John Malgeri,
Director, Office of Program Standards and Compliance Division.

[FR Doc. E9-25211 Filed 10-19-09; 8:45 am]

BILLING CODE 4210-67-P